DEPARTMENT OF TRANSPORTATION

Federal Aviation Administration

14 CFR Part 39

[Docket No. 2003-CE-31-AD]

RIN 2120-AA64

Airworthiness Directives; Anjou Aeronautique Safety Belts and Restraint Systems

AGENCY: Federal Aviation Administration, DOT.

ACTION: Notice of proposed rulemaking (NPRM).

SUMMARY: This document proposes to adopt a new airworthiness directive (AD) that would apply to certain Anjou Aeronautique (ANJOU) (formerly TRW Repa S.A., formerly L'AIGLON) safety belts and restraint systems that are installed in aircraft. This proposed AD would require you to inspect safety belts and restraint systems for defects and service life limits, and, if necessary, repair safety belts and restraint systems that have not reached service life limits; and replace safety belts and restraint systems that have reached service life limits. This proposed AD is the result of field reports of inadvertent unbuckling of the ANJOU seat belts and two safety recommendations to take AD action. The actions specified by this proposed AD are intended to detect and correct defective safety belts and restraint systems, which could result in failure of the safety belts and restraint systems. Such failure could lead to lack of occupant restraint during normal or crash loads.

DATES: The Federal Aviation Administration (FAA) must receive any comments on this proposed rule on or before November 10, 2003.

ADDRESSES: Submit comments to FAA, Central Region, Office of the Regional Counsel, Attention: Rules Docket No. 2003-CE-31-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-31-AD” in the subject line. If you send comments electronically as attached electronic files, the files must be formatted in Microsoft Word 97 for Windows or ASCII text.

You may get service information that applies to this proposed AD from Anjou Aeronautique, 13 Avenue De L'Osier, 49125 Tierce, France; telephone: 33 0 2 41 42 88 92; facsimile: 33 0 2 41 42 15 77. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How Do I Comment on This Proposed AD?

The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2003-CE-31-AD.” We will date stamp and mail the postcard back to you.

Discussion

What Events Have Caused This Proposed AD?

The FAA issued Special Airworthiness Information Bulletin (SAIB) Number CE-02-44, dated September 4, 2002, for SOCATA—Groupe AEROSPATIALE (SOCATA) Model TBM 700 airplanes, concerning ANJOU seat belts. At that time, FAA did not make a determination of an unsafe condition and take AD action.

Later, FAA issued SAIB Number CE-03-06, dated November 7, 2002, for SOCATA Rallye 150T, Rallye 150ST, Rallye 235E, and Rallye 235C airplanes, concerning ANJOU seat belts. Again, FAA then did not make a determination of an unsafe condition and take AD action.

Continued field reports were received of inadvertent unbuckling of the ANJOU seat belts. Two safety recommendations were made to take FAA AD action (NPRM) to propose to require replacement of certain safety belts and restraint systems.

In light of the field reports and safety recommendations, we issued a proposal to amend part 39 of the Federal Aviation Regulations (14 CFR part 39) to include an AD that would apply to all SOCATA Models TB 9, TB 10, TB 20, TB 21, TB 200, TMB 700, Rallye 100S, Rallye 150T, Rallye 150ST, Rallye 235E, and Rallye 235C airplanes. This proposal was published in the Federal Register as a notice of proposed rulemaking (NPRM) on March 7, 2003 (68 FR 11015). The NPRM proposed to require you to replace certain safety belts and restraint systems.

Comments received on the NPRM suggest that FAA withdraw the proposal and that FAA consider issuing a new NPRM to propose that you:

• Inspect certain ANJOU safety belts and restraint systems that are installed in airplanes for defects and service life limits;

• Repair defective safety belts and restraint systems that have not reached service life limits; and

• Replace safety belts and restraint systems that have reached service life limits.

We agree, and therefore, are withdrawing that NPRM.

What Are the Consequences if the Condition Is Not corrected?

These defective safety belts and restraint systems could result in failure of the safety belts and restraint systems. Such failure could lead to lack of occupant restraint during normal or crash loads.

Is There Service Information That Applies to This Subject?

ANJOU has issued this service information:

• Service Bulletin No. 343-25-02, Issue 1, dated October 23, 2001; and

• Service Bulletin No. 343-1-25-01, Issue 1, dated October 23, 2001.

What Are the Provisions of This Service Information?

The service bulletins include procedures for:

• Inspecting the buckles of the safety belts and restraint systems for defects;

• Replacing defective buckle springs; and

• Replacing safety belts and restraint systems when the service life limit is reached.

The FAA's Determination and an Explanation of the Provisions of This Proposed AD

What Has FAA Decided?

After examining the circumstances and reviewing all available information related to the incidents described above, we have determined that:

• The unsafe condition referenced in this document exists or could develop on type design aircraft that incorporate ANJOU safety belts and restraint systems, types 343 and 343-1;

• The ANJOU safety belts and restraint systems, types 343 and 343-1, should be immediately inspected for correct installation and eventually replaced; and

• AD action should be taken in order to correct this unsafe condition.

What Would This Proposed AD Require?

This proposed AD would require you to incorporate the actions in the previously-referenced service bulletins.

How Does the Revision to 14 CFR Part 39 Affect This Proposed AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Aircraft Would This Proposed AD Impact?

We estimate that at least 617 aircraft in the U.S. registry could have the affected ANJOU safety belts and restraint systems installed. Some aircraft have more than one unit installed.

What Would Be the Cost Impact of This Proposed AD on Owners/Operators of the Affected Airplanes?

We estimate the following costs to accomplish this proposed inspection and repair:

Labor cost | Parts cost | Total cost per 6 safety belts and restraint systems
1 workhour per 6 safety belts and restraint systems × $65 per hour = $65 | No cost | $65.

The number of installed safety belts and restraint systems may vary by individual aircraft configuration. Therefore, we have no way of determining the replacement cost for this proposed AD.

Compliance Time of This Proposed AD

What Would Be the Compliance Time of This Proposed AD?

The compliance time of this proposed AD is within 50 hours time-in-service or 4 calendar months after the effective date of this AD, whichever occurs first.

Why Is The Compliance Time of This Proposed AD Presented in Both Hours TIS and Calendar Time?

Defective safety belts and restraint systems are a direct result of use of the safety belts and restraint systems. However, defective safety belts and restraint systems are not necessarily a result of repetitive airplane operation. For example, defective safety belts and restraint systems could occur on an affected airplane within a short period of airplane operation while you could operate another affected airplane for a considerable amount of time without experiencing defective safety belts and restraint systems. Therefore, to assure that any defective safety belt and restraint system is detected and corrected in a timely manner without inadvertently grounding any of the affected airplanes, we are utilizing a compliance time based upon both hours TIS and calendar time.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Anjou Aeronautique (Formerly TRW REPA S.A., Formerly L'Aiglon): Docket No. 2003-CE-31-AD

(a) This AD affects Anjou Aeronautique safety belts and restraint systems specified in paragraph (a)(1) that are installed on, but not limited to, the aircraft specified in paragraph (a)(2) that are certificated in any category:

(1) Anjou Aeronautique safety belts and restraint systems: Part Numbers/Types 343, 343-1, 343AM, 343B, 343BM, 343C, 343CM, 343D, and 343M.

(2) Affected aircraft: The following is a list of aircraft that may incorporate the affected Anjou Aeronautique safety belts and restraint systems:

(i) Eurocopter France Models AS332C, AS332L, AS332L1, AS332L2, and AS350B2 helicopters; and

(ii) SOCATA—Groupe Aerospatiale TB 9, TB 10, TB 20, TB 21, TB 200, TMB 700, Rallye 100S, Rallye 150T, Rallye 150ST, Rallye 235E, and Rallye 235C airplanes.

(b) Who must comply with this AD? Anyone who wishes to operate an aircraft equipped with one of the affected safety belts and restraint systems must comply with this AD.

(c) What problem does this AD address? The actions specified by this AD are intended to detect and correct defective safety belts and restraint systems, which could result in failure of the safety belts and restraint systems. Such failure could lead to lack of occupant restraint during normal or crash loads.

(d) What actions must I accomplish to address this problem? To address this problem, you must accomplish the following:

Actions | Compliance | Procedures
(1) Inspect the installed Anjou Aeronautique/TRW Repa S.A./L'Aiglon safety belts and restraint systems (types 343, 343-1, 343AM, 343B, 343BM, 343C, 343CM, 343D, or 343M) for: (i) defective buckle latch; and (ii) exceeded service life. | Within the next 50 hours time-in-service (TIS) after the effective date of this AD or 4 calendar months after the effective date of this AD, whichever occurs first, unless already accomplished. Repetitively inspect thereafter at every 12 calendar months until the affected safety belt and restraint system is replaced as specified by paragraph (d)(3) of this AD. | For types 343, 343AM, 343B, 343BM, 343C, 343CM, 343D, or 343M: In accordance with Aujou Aeronautique Service Bulletin No. 343-25-02, Issue 1, dated October 23, 2001. For type 343-1: In accordance with Anjou Aeronautique Service Bulletin No. 343-1-23-01, Issue 1, dated October 23, 2001.
(2) If any defective buckle latch or safety belt and restraint systems with exceeded service-life is found during any inspection required by paragraph (d)(1) of this AD: (i) For any defective buckle latch, replace defective parts with new parts. (ii) For any safety belt and restraint system that has exceeded its service life, replace with a non-Anjou Aeronautique/TRW Repa S.A./L'Aiglon FAA-approved safety belt and restraint system. The service life limit for the Anjou Aeronautique/TRW Repa S.A./L'Aiglon is 60 calendar months after the date of manufacture. | Prior to further flight after any inspection required by paragraph (d)(1) of this AD. | For Types 343, 343AM, 343B, 343BM, 343C, 343CM, 343D, or 343M: In accordance with Anjou Aeronautique Service Bulletin No. 343-1-25-02, Issue 1, dated October 23, 2001. For type 343-1: In accordance with Anjou Aeronautique Service Bulletin No. 343-1-23-01, Issue 1, dated October 23, 2001.
(3) Replace any installed Anjou Aeronautique/TRW Repa S.A./L'Aiglon safety belts and restraint systems (types 343, 343-1, 343AM, 343B, 343BM, 343C, 343CM, 343D, or 343M). Replacement of all safety belts and restraint systems eliminates the need for the repetitive inspections of paragraph (d)(1) of this AD. | Prior to exceeding the service life limit of 60 calendar months after the date of manufacture or 4 calendar months after the effective date of this AD, whichever occurs later. | Not Applicable.
(4) Do not install any Anjou Aeronautique/TRW Repa S.A./L'Aiglon types 343, 343-1, 343M, 343AM, 343B, 343BM, 343C, 343CM, and 343D safety belts and restraint systems. | As of the effective date of this AD. | Not Applicable.

Note: All inertia-reel type safety belts and restraint systems or fixed rear safety belts and restraint systems from another manufacturer are not affected by this AD.

(e) Can I comply with this AD in any other way? To use an alternative method of compliance or adjust the compliance time, follow the procedures in 14 CFR 39.19. Send these requests to the Manager, Standards Office, Small Airplane Directorate. For information on any already approved alternative methods of compliance, contact Karl Schletzbaum, Aerospace Engineer, FAA, Small Airplane Directorate, 901 Locust, Room 301, Kansas City, Missouri 64106; telephone: (816) 329-4146; facsimile: (816) 329-4090.

(f) How do I get copies of the documents referenced in this AD? You may get copies of the documents referenced in this AD from Anjou Aeronautique, 13 Avenue De L'Osier, 49125 Tierce, France; telephone: 33 0 2 41 42 88 92; facsimile: 33 0 2 41 42 15 77. You may view these documents at FAA, Central Region, Office of the Regional Counsel, 901 Locust, Room 506, Kansas City, Missouri 64106.

Issued in Kansas City, Missouri, on August 25, 2003.
Michael Gallagher,
Manager, Small Airplane Directorate, Aircraft Certification Service.

[FR Doc. 03-22257 Filed 8-29-03; 8:45 am]

BILLING CODE 4910-13-P